DEPARTMENT OF STATE

Human Resources, Recruitment, Examination and Evaluation, Office of Recruitment

[Public Notice 3922]

Notice of Information Collection Under Emergency Review: Attitude Survey Regarding Employment Choices

ACTION: Notice.

SUMMARY: The Department of State has submitted the following information collection request to the Office of Management and Budget (OMB) for review and approval in accordance with the emergency review procedures of the Paperwork Reduction Act of 1995.

Type of Request: Emergency Review.

Originating Office: Bureau of Human Resources, HR/REE/REC.

Title of Information Collection: Attitude Survey Regarding Employment Choices.

Frequency: Occasionally.

Form Number: There is no form number, this is an outsourced survey of questions to be answered orally by respondents.

Respondents: The respondents will be U.S. citizens between the ages of 18 and 40, living in all regions of the United States as well as the Washington D.C. Metropolitan area, from an ethnically diverse sample achieved by purchasing ethnically targeted lists. Respondents will be asked to self classify their ethnicity/race using a series of questions similar to those used on the U.S. Census.

Estimated Number of Respondents: 1200.

Average Hours Per Response: 20 minutes each.

Total Estimated Burden: 400 hours.

The proposed information collection is published to obtain comments from the public and affected agencies. Emergency review and approval of this collection has been requested from OMB by March, 2002. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Bureau of Human Resources Bureau, Recruitment, Examination and Evaluation, U.S. Department of State, Washington, DC 20520, who may be reached on (202) 261-8888.

Dated: February 14, 2002.
Kaara N. Ettesvold,
Deputy Executive Director, Human Resources, U.S. Department of State.

[FR Doc. 02-4654 Filed 2-26-02; 8:45 am]

BILLING CODE 4710-15-P